DEPARTMENT OF COMMERCE

National Oceanic and Atmospheric Administration

[I.D. 022603C]

Mid-Atlantic Fishery Management Council; Public Meetings

AGENCY: National Marine Fisheries Service (NMFS), National Oceanic and Atmospheric Administration (NOAA), Commerce.

ACTION: Notice of public meeting.

SUMMARY: The Mid-Atlantic Fishery Management Council (Council) and its Research Set Aside (RSA) Committee and its Executive Committee will hold a public meeting.

DATES: The meetings will be held on Tuesday, March 18, through Thursday, March 20, 2003. On Tuesday, March 18, there will be a Research Set-Aside (RSA) Workshop from noon until 5 p.m. There will be a Dogfish Scoping meeting from 7 pm to 8:30 p.m. On Wednesday, March 19, the Executive Committee will meet from 8 a.m. to 9 a.m. The Council will meet from 9 a.m. to 11 a.m. The Council will tour the U.S. Coast Guard Museum and hear a presentation on Homeland Defense from 11 a.m. to 1:15 p.m. The Council will meet from 1:30 p.m. to 4:30 p.m. The Council will then visit the Virginia Marine Science Museum from 5 p.m. to 8 p.m. On Thursday, March 20, the Council will meet from 8 a.m. until noon.

ADDRESSES: This meeting will be held at the Sheraton Oceanfront Hotel, 36th Street and Atlantic Avenue, Virginia Beach, VA; telephone: 757-425-9000 or 800-325-3535.

Council address: Mid-Atlantic Fishery Management Council, 300 S. New Street, Dover, DE 19904; telephone: 302-674-2331.

FOR FURTHER INFORMATION CONTACT: Daniel T. Furlong, Executive Director, Mid-Atlantic Fishery Management Council; telephone: 302-674-2331, ext. 19.

SUPPLEMENTARY INFORMATION: The Council and NMFS will hold a collaborative workshop from noon to 5 p.m. on March 18, 2003 to discuss the Council's RSA program.

The RSA program is carried out through the cooperation of the Council, NMFS, and the Atlantic States Marine Fisheries Commission. It provides a mechanism to fund research relevant to the Council's and Commission's fishery management plans and to compensate vessels through the sale of fish harvested under specially designated RSA quotas. Research projects have been funded through the RSA in 2002 and 2003, and a notice for solicitation of 2004 projects has recently been published in the Federal Register (68, FR 3864, 1/27/2003). The NMFS is currently soliciting proposals for research activities concerning the summer flounder, scup, black sea bass, Loligo squid, Illex squid, Atlantic mackerel, butterfish, and bluefish fisheries. While the tilefish fishery is part of the RSA program, the Council has voted to set the tilefish RSA quota to zero until a stock assessment has been completed. All research proposals to be considered under this solicitation must be received by March 28, 2003.

The purpose of the workshop is to receive public input from RSA project participants and the general public on how to improve the RSA program, and to inform the public and potential RSA quota recipients about the opportunities and requirements of the RSA program. Main agenda items for the workshop will be:

(1) Welcome and Description of the RSA Program, (2) The RSA 2004 Request for Proposals (RFP) Solicitation, (3) The RSA Grants Review/Approval Process, (4) Overview and Discussion of the Exempted Fishing Permit Process Requirements RSA Recipients Must Comply With, (5) Public Input from RSA Project Participants and General Public with Suggestions on How to Improve the RSA Program, (6) Integration of RSA Projects with NMFS Northeast Fisheries Science Center Programs, (7) Integration of RSA Project Findings Into the Fisheries Management Process.

Additional agenda items for the Council's committees and the Council itself are: Conduct a scoping meeting for Amendment 1 to the Dogfish Fishery Management Plan (consider, among other management measures, the following items for inclusion in Amendment 1: define a rebuilding biomass target for Bmsy, establish rebuilding timeframe consistent with Section 304(e) of the Magnuson-Stevens Act (MSA), address bycatch/discard issues, and address different allocation processes; the Executive Committee will discuss potential Council actions regarding MSA and Marine Mammal Protection Act (MMPA) Reauthorizations; hear a presentation on the peer review and stock assessment workshop process; hear a NMFS presentation on initiative to change recreational fishing data collection (report on the new coastwide methodology to collect catch and effort data from the for-hire recreational fleet and discuss how new system would affect Marine Recreational Fishery Statistics Survey (MRFSS); review and discuss directions and priorities for 2003 and 2004 for summer flounder, scup, and black sea bass; receive and discuss organizational and committee reports including the New England Council's report regarding possible actions on herring, groundfish, monkfish, red crab, scallops, skates, and whiting; and, act on any continuing and/or new business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to Joanna Davis at the Council (see ADDRESSES) at least 5 days prior to the meeting date.

Dated: February 26, 2003.
Theophilus R. Brainerd,
Acting Director, Office of Sustainable Fisheries, National Marine Fisheries Service.

[FR Doc. 03-5044 Filed 3-3-03; 8:45 am]

BILLING CODE 3510-22-S